DEPARTMENT OF COMMERCE

National Oceanic and Atmospheric Administration

Agency Information Collection Activities; Submission to the Office of Management and Budget (OMB) for Review and Approval; Comment Request; Coral Reef Conservation Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 21, 2021.

ADDRESSES: Interested persons are invited to submit written comments to Adrienne Thomas, NOAA PRA Officer, at Adrienne.thomas@noaa.gov. Please reference OMB Control Number 0648-0448 in the subject line of your comments. Do not submit Confidential Business Information or otherwise sensitive or protected information.

FOR FURTHER INFORMATION CONTACT: Requests for additional information or specific questions related to collection activities should be directed to Craig Reid, Grant Coordinator, Coral Reef Conservation Program, NOAA National Ocean Service, 1305 East West Highway, 10th Floor, Silver Spring, MD 20910, 240-533-0783, and Craig.A.Reid@noaa.gov.

SUPPLEMENTARY INFORMATION:

I. Abstract

This request is for revision and extension of a currently approved information collection.

The Coral Reef Conservation Act of 2000 (16 U.S.C. 6401 et seq.) was enacted on December 14, 2000, to preserve, sustain and restore the condition of coral reef ecosystems; to promote the wise management and sustainable use of coral reef ecosystems to benefit local communities and the Nation; to develop sound scientific information on the condition of coral reef ecosystems and the threats to such ecosystems; to assist in the preservation of coral reefs by supporting conservation programs, including projects that involve affected local communities and non-governmental organizations; to provide financial resources for those programs and projects; and to establish a formal mechanism for the collecting and allocating of monetary donations from the private sector to be used for coral reef conservation projects. Under section 6403 of the Act, the Secretary, through the NOAA Administrator (Administrator) and subject to the availability of funds, is authorized to provide matching grants of financial assistance for coral reef conservation projects. Section 408(c) of the Act authorizes at least $8,000,000 annually for financial assistance projects under the Program.

Collection activities for this program are outlined below and include: 1. Applicant creation and submission of requests for waivers of the non-Federal matching funds requirement; 2. Review of project proposals by Federal Agencies and non-Federal entities with jurisdiction or management authority over coral reef ecosystems in the area where the project is to be conducted; and 3. Revision of performance reporting methods to include a standard program-specific template and a new indicator tracking report.

As per section 6403(b) of the Act, NOAA will require that Federal funds for any coral conservation financial assistance project may not exceed 50 percent of the total cost. However, the Administrator may waive all or part of the matching requirement if the Administrator determines that no reasonable means are available through which an applicant can meet the matching requirement and the probable benefit of the project outweighs the public interest in the matching requirement. The suitability for a waiver is determined after the applicant has submitted a written request with the application package and provided the proper justification.

As per section 6403(f) of the Act, NOAA will review eligible coral reef conservation proposals using an external governmental review and merit-based peer review. As part of this review, NOAA will request and consider written comments on the proposal from each Federal agency, state government, or other government jurisdiction, including the relevant regional Fishery Management Councils established under the Magnuson-Stevens Fishery Conservation and Management Act (16 U.S.C. 1801 et seq.), or any National Marine Sanctuary, with jurisdiction or management authority over coral reef ecosystems in the area where the project is to be conducted. Pursuant to this requirement of the Act, NOAA will apply the following standard in requesting comments: (A) Proposals for projects in state or territorial waters, including Federal marine protected areas in such waters (e.g. National Marine Sanctuaries), will be submitted to that state or territorial government's designated U.S. Coral Reef Task Force point of contact for comment; (B) proposals for projects in Federal waters will be submitted to the relevant Fishery Management Council for comment; (C) proposals for projects which require Federal permits will be submitted to the Federal agency which issued the permit for comment; (D) proposals for projects in Federal marine protected areas managed by Federal agencies (e.g., National Wildlife Refuges, National Parks, National Marine Sanctuaries, etc.) will be submitted to the respective Federal management authority for comment; and (E) NOAA will seek comments from other government entities, authorities, and/or jurisdictions, including international entities for projects proposed outside of U.S. waters, as necessary based on the nature and scope of the proposed project.

As per 2 CFR part 200.329, all recipients of non-construction federal financial assistance awards are required to provide performance (technical) reports to the agency at intervals no less frequently than annually and no more frequently than quarterly in order for the agency to properly monitor the award and meet oversight responsibilities. The awarding agency must use OMB-approved common forms for this purpose or seek permission for program-specific forms that will collect the required data elements. The Coral Reef Conservation Program seeks OMB approval to revise this information collection to require use of a program-specific form for semi-annual reporting and an annual form for tracking specific indicators. These indicators align with the new Coral Reef Conservation Program Strategic Plan (2018; https://www.coris.noaa.gov/activities/strategic_plan2018) and will be used to track national progress toward these strategic goals through 2040. The program-specific form for semi-annual reporting will be a revised version of what is currently in use and will standardize reporting across projects.

II. Method of Collection

Information will be collected electronically via the Department of Commerce Grants Online system. In the event that electronic submission is not available, paper submissions may be allowable pursuant to the Notice of Funding Opportunity.

III. Data

OMB Control Number: 0648-0448.

Form Number(s): SF-424 family.

Type of Review: Regular (Revision and extension of current information collection).

Affected Public: Business or other for-profit organizations; Not-for-profit institutions; State or Local Government; Federal government.

Estimated Number of Respondents: 39.

Estimated Time per Response: Matching funds waiver request: 2 hours; Reviewer Comments: 3 hours.

Estimated Total Annual Burden Hours: 136 hours

Estimated Total Annual Cost to Public: No cost for electronic responses.

Respondent's Obligation: Required to obtain or retain benefits.

Legal Authority: Coral Reef Conservation Act of 2000 (16 U.S.C. 6401 et seq.)

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-05811 Filed 3-19-21; 8:45 am]

BILLING CODE 3510-JE-P